DEPARTMENT OF TRANSPORTATION

National Highway Traffic Safety Administration

49 CFR Part 563

[Docket No. NHTSA-2012-0099]

RIN 2127-AL14

Event Data Recorders

Correction

In rule document 2012-19580, appearing on pages 47552-47557 in the issue of Thursday, August 9, 2012, make the following correction:

§ 563.8 Data format [Corrected]

On page 47557 in the table titled “Table III—Reported Data Element Format”, in the “Accuracy ¹” column, in the twenty-fifth row, “ ±ms” should read “ ±2ms”.

[FR Doc. C1-2012-19580 Filed 9-27-12; 8:45 am]

BILLING CODE 1505-01-D